DEPARTMENT OF TRANSPORTATION

Federal Transit Administration

Availability of Environmental Management Systems Training and Assistance for State and Local Transit Agencies

AGENCY: Federal Transit Administration (FTA), DOT.

ACTION: Notice of availability of Environmental Management Systems training and assistance.

SUMMARY: The Federal Transit Administration (FTA) will sponsor training and assistance in Environmental Management Systems (EMS) for up to ten state and local transit agencies. EMS can play a valuable role in the establishment of sound business management practices that include concern for the environment. Adoption of environmental management systems has been shown to result in advantages in financing, insurance, marketing, regulatory compliance, and other areas of operations. FTA will sponsor assistance in the form of training workshops, on-site technical advice and consultation, including follow-up. Applications from transit agencies to participate in this training and assistance are solicited.

DATES: Letters of application to participate in this training and assistance program must be received by September 7, 2007.

ADDRESSES: Letters of application should be submitted to: Federal Transit Administration, Office of Planning and Environment, 1200 New Jersey Avenue, SE., Room E45-130, Washington, DC 20590, Attention: Jim Barr, Fax: (202) 366-2478.

Applications may be hand delivered between 9 a.m. and 5 p.m., Monday through Friday, except for Federal holidays; for confirmation of mail delivery, a stamped, self-addressed post card must be included.

FOR FURTHER INFORMATION CONTACT: Jim Barr or Julie Atkins, Office of Planning and Environment, Federal Transit Administration, 1200 New Jersey Avenue, SE., Room E45-130, Washington, DC 20590. Telephone: (202) 366-1568.

SUPPLEMENTARY INFORMATION:

Environmental Management Systems

Environmental management systems are designed to develop a systematic management approach to the environmental concerns of an organization. Evidence suggests that adoption of environmental management systems results in advantages in financing, insurance, marketing, regulatory compliance, and other areas of operations. Perhaps the most recognized and widely employed environmental management system is ISO [International Organization for Standardization] 14001, a model for implementing environmental management systems used by tens of thousands of organizations in more than 100 countries.

In January 2006, the Federal Transit Administration (FTA) concluded a successful Environmental Management Systems (EMS) training and technical assistance program based on ISO 14001 for ten public transit agencies. The results of the final audit and the responses of the participating transit agencies, documented in a report entitled, “Environmental Management Systems Training & Assistance Final Report” (January 2006), available online at http://www.fta.dot.gov/library/FTA_EMS/index.htm, were impressive. Nine of the ten participating transit agencies achieved an overall rating of 93 per cent or higher, and four of those agencies achieved an overall rating in excess of 97 per cent. Cost savings could not be easily quantified in the abbreviated implementation period, but one participating transit agency reported an annualized savings of $66,000 in fuel and labor costs alone. So impressed were two of the participating transit agencies with ISO 14001 as a framework that inspires and channels the creative thinking of all their employees that they elected to become ISO certified.

FTA is now prepared to provide an opportunity for up to ten more public transit agencies to receive similar EMS training and assistance.

EMS Training and Assistance

FTA will provide assistance in the form of training workshops, on-site technical support visits and electronic materials and consultation. FTA is currently selecting a skilled contractor to carry out EMS training and assistance under a cooperative agreement. Training will be designed to help transit agencies develop and implement an environmental management system based on ISO 14001 which provides a structured process for the achievement of continual improvement, the rate and extent of which are determined by the organization in light of economic factors and other circumstances.

The EMS training program will include:

• EMS training and assistance for up to ten transit agency teams, consisting of three to four members each, over a two-year period;

• A curriculum designed specifically for transit agency implementation of an EMS with a possible emphasis on the implementation of an EMS for a transit capital program;

• A pre-workshop site evaluation visit to each agency by the contractor team;

• A training “tool-kit,” including guidebooks and software, as necessary;

• Four three-day workshops at the site of the contractor's choosing which would include all transit teams; participants are responsible for travel and accommodation costs for these workshops;

• Two site visits and progress reviews by the contractor for each participant; and

• Monthly conference calls with the contractor, FTA, and all program participants.

At the conclusion of training, and following a period of implementation, FTA will assemble a final report that includes the participating transit agencies' case studies and an assessment of training results.

How To Apply for the Program

Interested transit agencies should submit a letter, signed by the head of the public transportation organization, that contains the following information:

• A brief description of the transit organization and its responsibilities;

• The name of a high-ranking transit agency management representative who will have the responsibility and the authority for ensuring that the EMS is developed based on the program provided above. The transit agency's representative should be available to travel and participate in workshops with other transit participants over the life of the project; and

• A clear assurance that senior management in the organization will provide the necessary visibility, staff time, and other resources necessary to successfully develop and implement the EMS through its implementation team. Ongoing top management support is the most critical factor for ensuring a successful and sustainable EMS.

Judging Applications

Once all applications are received, FTA will conduct follow-up interviews with each applicant to discuss the information contained in the letter of application in more detail and to obtain any other necessary information. FTA will give preference to agencies that are particularly interested in the implementation of an EMS for a transit capital program. FTA may consult with the contractor before final decisions are made.

FTA will use a number of criteria to select participants, including:

• Organizational commitment by transit agency leadership to EMS implementation;

• Geographical diversity;

• Previous environmental experiences; and

• Environmental challenges from operations and/or pending capital projects.

The first program workshop should occur in early 2008.

Issued in Washington, DC this 7th day of August 2007.
James S. Simpson,
Administrator.

[FR Doc. E7-15754 Filed 8-10-07; 8:45 am]

BILLING CODE 4910-57-P